FEDERAL COMMUNICATIONS COMMISSION

47 CFR Part 73

[MB Docket No. 04-219, RM-10986, DA 11-1687]

Radio Broadcasting Services; Evergreen, AL, and Shalimar, FL

AGENCY: Federal Communications Commission.

ACTION: Dismissal.

SUMMARY: The Audio Division, at the request of Qantum of Ft. Walton Beach License Company, LLC, proponent of a petition for reconsideration of the Memorandum Opinion and Order in this proceeding, dismisses the petition for reconsideration and terminates the proceeding.

FOR FURTHER INFORMATION CONTACT: Deborah Dupont, Media Bureau, (202) 418-7072.

SUPPLEMENTARY INFORMATION: This is a synopsis of the Commission's Order, MB Docket No. 04-219, adopted October 6, 2011, and released October 7, 2011. The full text of this Commission decision is available for inspection and copying during normal business hours in the FCC Information Center, Portals II, 445 12th Street SW., Room CY-A257, Washington, DC 20554. The complete text of this decision also may be purchased from the Commission's duplicating contractor, Best Copy and Printing, Inc., 445 12th Street SW., Room CY-B402, Washington, DC 20554, (800) 378-3160, or via the company's Web site, http://www.bcpiweb.com. The Order is not subject to the Congressional Review Act. (The Commission, is, therefore, not required to submit a copy of this Report and Order to GAO, pursuant to the Congressional Review Act, see U.S.C. 801(a)(1)(A) because the proposed rule was dismissed.)

Federal Communications Commission.
Nazifa Sawez,
Assistant Chief, Audio Division, Media Bureau.

[FR Doc. 2011-28793 Filed 11-7-11; 8:45 am]

BILLING CODE 6712-01-P